INTERNATIONAL TRADE COMMISSION

[Investigation No. 337-TA-529]

In the Matter of Certain Digital Processors, Digital Processing Systems, Components Thereof, and Products Containing Same; Notice of a Commission Determination Not To Review an Initial Determination Granting a Joint Motion To Terminate the Investigation on the Basis of a License Agreement; Termination of the Investigation

AGENCY: U.S. International Trade Commission.

ACTION: Notice.

SUMMARY: Notice is hereby given that the U.S. International Trade Commission has determined not to review an initial determination (“ID”) granting a joint motion to terminate the above-captioned investigation on the basis of a license agreement.

FOR FURTHER INFORMATION CONTACT: Timothy P. Monaghan, Esq., Office of the General Counsel, U.S. International Trade Commission, 500 E Street, SW., Washington, DC 20436, telephone 202-205-3152. Copies of the nonconfidential version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation on January 6, 2005, based on a complaint filed on behalf of BIAX Corporation (“BIAX”), of Boulder, Colorado (70 FR 1277). The complaint alleged violations of section 337 in the importation into the United States, sale for importation, and sale within the United States after importation of certain digital processors, digital processing systems, components thereof, and products containing same by reason of infringement of certain claims of U.S. Patent Nos. 4,487,755 (“the '755 patent”); 5,021,954 (“the '954 patent”); 5,517,628; 6,253,313; and 5,765,037. The notice of investigation named Texas Instruments, Inc. (“TI”), of Dallas, Texas; iBiquity Digital Corporation, of Columbia, Maryland; Kenwood Corporation, of Japan; and Kenwood U.S.A. Corporation, of Long Beach, California as respondents.

On April 12, 2005, respondent TI filed a motion for summary determination of non-infringement of the asserted claims of the '755 and '945 patents. On May 20, 2005, complainant BIAX filed its opposition to TI's motion for summary determination. On May 23, 2005, the Commission's investigative attorney filed an opposition to TI's motion for summary determination.

On July 12, 2005, the administrative law judge (“ALJ”) issued an ID, Order No. 18, granting respondent TI's motion for summary determination of non-infringement of the asserted claims of the '755 and '945 patents. On July 19, 2005, complainant BIAX filed a petition for review of Order No. 18.

On July 20, 2005, the parties filed a joint motion to extend the deadline for filing responses to BIAX's petition for review of Order No. 18 until August 10, 2005, and to extend the deadline for the Commission to determine whether to review Order No. 18 until August 30, 2005. On July 22, 2005, the Chairman extended the deadline for filing responses to the BIAX's petition for review of Order No. 18 until August 10, 2005.

On August 1, 2005, the Commission determined to extend the deadline for determining whether to review the Order No. 18, granting respondent TI's motion for summary determination of non-infringement of the asserted claims of the '755 and '945 patents, by 30 days, i.e., until September 12, 2005.

On August 3, 2004, complainant BIAX and respondents filed a joint motion to terminate the investigation based on a license agreement between BIAX and respondent TI. The Commission investigative attorney supported the joint motion.

On August 8, 2005, the presiding ALJ issued the subject ID (Order No. 23) granting the joint motion to terminate the investigation based on a license agreement between BIAX and respondent TI. No party filed a petition to review the subject ID. The Commission has determined not to review ALJ Order No. 23.

This action is taken under the authority of section 337 of the Tariff Act of 1930, 19 U.S.C. 1337, and § 210.42 of Rules of Practice and Procedure, 19 CFR 210.42.

Issued: September 1, 2005.
By order of the Commission.
Marilyn R. Abbott,
Secretary to the Commission.

[FR Doc. 05-17737 Filed 9-7-05; 8:45 am]

BILLING CODE 7020-02-P